ENVIRONMENTAL PROTECTION AGENCY

40 CFR Part 52

[VT-19-1222a; A-1-FRL-6854-8]

Approval and Promulgation of Air Quality Implementation Plans; Revised Format for Materials Being Incorporated by Reference for Vermont

AGENCY: Environmental Protection Agency (EPA).

ACTION: Final rule; notice of administrative change.

SUMMARY: EPA is revising the format of 40 CFR part 52 for materials submitted by the State of Vermont that are incorporated by reference (IBR) into its State Implementation Plan (SIP). The regulations affected by this format change have all been previously submitted by the state agency and approved by EPA.

EFFECTIVE DATE: This action is effective September 8, 2000.

ADDRESSES: SIP materials which are incorporated by reference into 40 CFR part 52 are available for inspection at the following locations: Environmental Protection Agency, EPA-New England, One Congress Street, Boston, MA 02203; Office of Air and Radiation, Docket and Information Center (Air Docket), Environmental Protection Agency, 401 M Street, SW, Room M1500, Washington, DC 20460; and Office of the Federal Register, 800 North Capitol Street, NW, Suite 700, Washington, DC.

FOR FURTHER INFORMATION CONTACT: Mr. Donald O. Cooke, Environmental Scientist, at the above EPA-New England address or at (617) 918-1668.

SUPPLEMENTARY INFORMATION: This format revision will affect the “Identification of Plan” section of 40 CFR part 52, as well as the format of the SIP materials that will be available for public inspection at the Office of the Federal Register (OFR); the Air and Radiation Docket and Information Center located in Waterside Mall, Washington, DC; and the EPA—New England Office. The sections of 40 CFR part 52 pertaining to provisions promulgated by EPA or state-submitted materials not subject to IBR review remain unchanged.

The supplementary information is organized in the following order:

Description of a SIP

How EPA Enforces SIPs

How the State and EPA updates the SIP

How EPA Compiles the SIPs

How EPA Organizes the SIP Compilation

Where You Can Find a Copy of the SIP Compilation

The Format of the New Identification of Plan Section

When a SIP Revision Becomes Federally Enforceable

The Historical Record of SIP Revision Approvals

What EPA Is Doing in This Action

How This Document Complies With the Federal Administrative Requirements for Rulemaking

Description of a SIP

Each state has a SIP containing the control measures and strategies used to attain and maintain the national ambient air quality standards (NAAQS). The SIP is extensive, containing such elements as air pollution control regulations, emission inventories, monitoring network, attainment demonstrations, and enforcement mechanisms.

How EPA Enforces SIPs

Each state must formally adopt the control measures and strategies in the SIP after the public has had an opportunity to comment on them. They are then submitted to EPA as SIP revisions on which EPA must formally act.

Once these control measures and strategies are approved by EPA, after notice and comment, they are incorporated into the Federally approved SIP and are identified in part 52 (Approval and Promulgation of Implementation Plans), Title 40 of the Code of Federal Regulations (40 CFR part 52). The full text of the state regulation approved by EPA is not reproduced in its entirety in 40 CFR part 52, but is “IBR.” This means that EPA has approved a given state regulation with a specific effective date. The public is referred to the location of the full text version should they want to know which measures are contained in a given SIP. (Where you can find a copy of the SIP compilation.) The information provided allows EPA and the public to monitor the extent to which a state implements the SIP to attain and maintain the NAAQS and to take enforcement action if necessary.

How the State and EPA Updates the SIP

The SIP is a living document which the state can revise as necessary to address the unique air pollution problems in the state. Therefore, EPA from time to time must take action on SIP revisions containing new and/or revised regulations as being part of the SIP. On May 22, 1997 (62 FR 27968), EPA revised the procedures for incorporating by reference Federally approved SIPs, as a result of consultations between EPA and OFR.

EPA began the process of developing: (1) A revised SIP document for each state that would be incorporated by reference under the provisions of 1 CFR part 51; (2) a revised mechanism for announcing EPA approval of revisions to an applicable SIP and updating both the IBR document and the CFR; and (3) a revised format of the “Identification of Plan” sections for each applicable subpart to reflect these revised IBR procedures.

The description of the revised SIP document, IBR procedures, and “Identification of Plan” format are discussed in further detail in the May 22, 1997, Federal Register document.

How EPA Compiles the SIPs

The Federally approved regulations and source-specific permits submitted by Vermont have been organized by EPA into a SIP compilation that contains the updated regulations and source-specific permits approved by EPA through previous rulemaking actions in the Federal Register. The compilations are contained in three-ring binders and will be updated, primarily on an annual basis. The nonregulatory provisions are available by contacting Donald Cooke at EPA—New England.

How EPA Organizes the SIP Compilation

Each compilation contains three parts. Part one contains the state regulations, part two contains the source-specific requirements that have been approved as part of the SIP, and part three contains nonregulatory provisions that have been EPA-approved. Each part consists of a table of identifying information for each regulation, each source-specific permit, and each nonregulatory provision. The effective dates in the tables indicate the date of the most recent revision of the regulation. The table of identifying information in the compilation corresponds to the table of contents published in 40 CFR part 52 for the state. The regional EPA Offices have the primary responsibility for ensuring accuracy and updating the compilations.

Where You Can Find a Copy of the SIP Compilation

EPA—New England developed and will maintain the compilation for Vermont. A copy of the full text of the state's current compilation will also be maintained at the OFR and EPA's Air Docket and Information Center.

The Format of the New Identification of Plan Section

In order to better serve the public, EPA revised the organization of the “Identification of Plan” section and included additional information to clarify the enforceable elements of the SIP.

The revised Identification of Plan section contains five subsections:

1. Purpose and scope

2. Incorporation by reference

3. EPA-approved regulations

4. EPA-approved source-specific permits

5. EPA-approved nonregulatory provisions such as transportation control measures, statutory provisions, control strategies, monitoring networks, etc.

When a SIP Revision Becomes Federally Enforceable

All revisions to the applicable SIP become Federally enforceable as of the effective date of the revisions to paragraphs (c) or (d) of the applicable Identification of Plan section found in each subpart of 40 CFR part 52.

The Historical Record of SIP Revision Approvals

To facilitate enforcement of previously approved SIP provisions and provide a smooth transition to the new SIP processing system, EPA retains the original Identification of Plan section, previously appearing in the CFR as the first or second section of part 52 for each state subpart. After an initial two-year period, EPA will review its experience with the new system and its ability to enforce previously approved SIP measures, and will decide whether or not to retain the Identification of Plan appendices for some further period.

What EPA Is Doing in This Action

Today's action constitutes a “housekeeping” exercise to ensure that all revisions to the state programs that have occurred are accurately reflected in 40 CFR part 52. State SIP revisions are controlled by EPA regulations at 40 CFR part 51. When EPA receives a formal SIP revision request, the Agency must publish the proposed revision in the Federal Register and provide for public comment before approval.

EPA has determined that today's action falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's action simply codifies provisions which are already in effect as a matter of law in Federal and approved state programs.

Under section 553 of the APA, an agency may find good cause where procedures are “impractical, unnecessary, or contrary to the public interest.” Public comment is “unnecessary” and “contrary to the public interest” since the codification only reflects existing law. Immediate notice in the CFR benefits the public by removing outdated citations.

How This Document Complies With the Federal Administrative Requirements for Rulemaking

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A Major rule cannot take effect until 60 days after it is published in the Federal Register. This action is not a “major rule” as defined by 5 U.S.C. 804(2).

C. Petitions for Judicial Review

EPA has determined that the provisions of section 307(b)(1) of the Clean Air Act pertaining to petitions for judicial review are not applicable to this action. Prior EPA rulemaking actions for each individual component of the Vermont SIP compilation had previously afforded interested parties the opportunity to file a petition for judicial review in the United States Court of Appeals for the appropriate circuit within 60 days of such rulemaking action. Thus, EPA sees no need in this action to reopen the 60-day period for filing such petitions for judicial review for this “Identification of plan” reorganization action.

List of Subjects in 40 CFR Part 52

Environmental protection, Air pollution control, Carbon monoxide, Hydrocarbons, Incorporation by reference, Intergovernmental relations, Lead, Nitrogen dioxide, Ozone, Particulate matter, Reporting and recordkeeping requirements, Sulfur oxides.

Dated: August 7, 2000.
Mindy S. Lubber,
Regional Administrator, EPA-New England.

Part 52 of chapter I, title 40, Code of Federal Regulations, is amended as follows:

PART 52—[AMENDED]

1. The authority for citation for part 52 continues to read as follows:

Authority: 42 U.S.C. 7401-7671q.

Subpart UU—Vermont

2. Section 52.2370 is redesignated as § 52.2386 and the section heading and paragraph (a) are revised to read as follows:

§ 52.2386 Original identification of plan section.

(a) This section identifies the original “Air Implementation Plan for the State of Vermont” and all revisions submitted by Vermont that were federally approved prior to August 14, 2000.

* * * * *

3. A new § 52.2370 is added to read as follows:

§ 52.2370 Identification of plan.

(a) Purpose and scope. This section sets forth the applicable State Implementation Plan for Vermont under section 110 of the Clean Air Act, 42 U.S.C. 7401-7671q and 40 CFR part 51 to meet national ambient air quality standards.

(b) Incorporation by reference. (1) Material listed in paragraphs (c) and (d) of this section with an EPA approval date prior to August 14, 2000 was approved for incorporation by reference by the Director of the Federal Register in accordance with 5 U.S.C. 552(a) and 1 CFR part 51. Material is incorporated as it exists on the date of the approval, and notice of any change in the material will be published in the Federal Register. Entries in paragraphs (c) and (d) of this section with EPA approval dates after August 14, 2000, will be incorporated by reference in the next update to the SIP compilation.

(2) EPA-New England certifies that the rules/regulations provided by EPA in the SIP compilation at the addresses in paragraph (b)(3) of this section are an exact duplicate of the officially promulgated state rules/regulations which have been approved as part of the State Implementation Plan as of August 14, 2000.

(3) Copies of the materials incorporated by reference may be inspected at the EPA-New England Office at One Congress Street, Boston, MA 02203; the Office of the Federal Register, 800 North Capitol Street, NW., Suite 700, Washington, DC.; or at the EPA, Air and Radiation Docket and Information Center, Air Docket (6102), 401 M Street, SW., Washington, DC. 20460.

(c) EPA approved regulations.

EPA Approved Vermont Regulations
State citation | Title/subject | State effective date | EPA approval date | Explanations
Chapter 5 Air Pollution Control
Subchapter I. Definitions
Section 5-101 | Definitions | 07/29/93 | 04/22/98, 63 FR 19828 | Definitions IBR'd into the Vermont SIP are numbered consecutively by EPA, and do not necessarily correspond to the State's assigned definition number in the Vermont State Regulation, which are re-numbered whenever definitions are added or deleted from the State Regulation.
Subchapter II. Prohibitions
Section 5-201 | Open burning prohibited | 07/22/98 | 04/22/98, 63 FR 19828
Section 5-202 | Permissible open burning | 01/25/78 | 12/21/78, 43 FR 59496
Section 5-203 | Procedures for local authorities to burn natural wood | 01/25/78 | 12/21/78, 43 FR 59496
Section 5-211 | Prohibition of visible air contaminants | 08/12/78 | 04/16/82, 47 FR 16331
Section 5-221 | Prohibition of potentially polluting materials in fuel | 01/25/78 | 12/21/78, 43 FR 59496 | Except Section 5-211(c)(i) and Section 5-211(c)(i).
Section 5-231 | Prohibition of particular matter | 11/13/81 | 02/26/85, 50 FR 7767
Section 5-241 | Prohibition of nuisance and odor | 01/25/78 | 12/21/78, 43 FR 59496
Section 5-251 | Control of nitrogen oxides emissions | 01/04/95 | 04/09/97, 62 FR 17084 | Requires RACT for major stationary sources of NOX.
Section 5-252 | Control of Sulfur dioxide emissions | 11/04/79 | 02/19/80, 45 FR 10775
Section 5-253.1 | Petroleum liquid storage in fixed roof Tanks | 10/29/92 | 04/22/98, 63 FR 19829
Section 5-253.2 | Bulk gasoline terminals | 10/29/92 | 04/22/98, 63 FR 19829
Section 5-253.3 | Bulk gasoline plants | 10/29/92 | 04/22/98, 63 FR 19829
Section 5-253.4 | Gasoline tank trucks | 10/29/92 | 04/22/98, 63 FR 19829
Section 5-253.5 | Stage I vapor recovery controls at gasoline dispensing facilities | 10/29/92 | 04/22/98, 63 FR 19829
Section 5-253.10 | Paper coating | 10/29/92 | 04/22/98, 63 FR 19829
Section 5-253.12 | Coating of flat wood paneling | 10/29/92 | 04/22/98, 63 FR 19829
Section 5-253.13 | Coating of miscellaneous metal parts | 07/29/93 | 04/22/98, 63 FR 19829
Section 5-253.14 | Solvent metal cleaning | 07/29/93 | 04/22/98, 63 FR 19829
Section 5-253.15 | Cutback and emulsified asphalt | 08/02/94 | 04/22/98 63 FR 19829
Section 5-253.20 | Other sources that emit volatile organic compounds | 08/03/93 | 04/09/97, 62 FR 17084
Section 5-261 | Control of hazardous air contaminants | 11/03/81 | 02/10/82, 47 FR 6014
Subchapter III. Ambient Air Quality Standards
Section 5-301 | Scope | 12/15/90 | 03/05/91, 56 FR 9177
Section 5-302 | Sulfur dioxide primary | 03/24/79 | 02/19/80, 45 FR 10775
Section 5-303 | Sulfur dioxide secondary. | 03/24/79 | 02/19/80, 45 FR 10775
Section 5-306 | PM10 primary and secondary standards. | 11/01/90 | 08/01/97, 62 FR 41282 | Removal of the TSP standard (Section 5-304 and 5-305) and establishment of PM10 standard (Section 5-306).
Section 5-307 | Carbon monoxide primary and secondary | 03/24/79 | 02/19/80, 45 FR 10775 | Formerly Section 5-306, renumbered to 5-307 when new Section 5-306 for PM10 was created.
Section 5-308 | Ozone primary and secondary | 03/24/79 | 02/19/80, 45 FR 10775 | Formerly Section 5-307, renumbered to 5-308 when new Section 5-306 for PM10 was created.
Section 5-309 | Lead primary and secondary | 11/03/81 | 02/10/82, 47 FR 6014 | Formerly Section 5-308, renumbered to 5-309 when new Section 5-306 for PM10 was created.
Section 5-310 | Nitrogen dioxide primary and secondary | 12/15/90 | 03/05/91, 56 FR 9177 | Formerly Section 5-309, renumbered to 5-310 when new Section 5-306 for PM10 was created.
Subchapter IV. Operations and Procedures
Section 5-401 | Classification of air contaminant sources | 03/24/79 | 02/19/80, 45 FR 10775
Section 5-402 | Written Reports when requested | 03/24/79 | 02/19/80, 45 FR 10775
Section 5-403 | Circumvention | 12/10/72 | 05/31/72, 37 FR 10899
Section 5-404 | Methods for sampling and testing of sources | 03/24/78 | 02/19/80, 45 FR 10775
Section 5-405 | Required air monitoring | 03/24/79 | 02/19/80, 45 FR 10775
Section 5-406 | Required air modeling | 03/24/79 | 02/19/80, 45 FR 10775
Subchapter V. Review of New Air Contaminant Sources
Section 5-501 | Review of construction or modification of air contaminant sources | 09/17/86 | 07/17/87, 52 FR 26982
Section 5-502 | Major stationary sources and major modifications | 07/14/95 | 08/04/98, 62 FR 41870
Subchapter VII. Motor Vehicle Emissions
Section 5-701 | Removal of control devices | 03/24/79 | 02/19/80, 45 FR 10775
Section 5-702 | Excessive smoke emissions from motor vehicles | 03/24/79 | 02/19/80, 45 FR 10775
Section 5-801 | Effective date | 03/24/79 | 01/30/80, 45 FR 6781
Tables
Table 1 | Table 1 Process weight standards | 01/25/78 | 12/21/78, 43 FR 59496
Table 2 | Table 2 PSD increments | 12/15/90 | 03/05/91, 56 FR 9177
Table 3 | Table 3 Levels of significant impact for non-attainment areas | 11/03/81 | 02/10/82, 47 FR 6014
Subchapter VIII. Registration of Air Contaminant Sources
Section 5-801 | Definitions | 04/20/88 | 01/10/95, 60 FR 2527
Section 5-802 | Requirement for registration | 04/20/88 | 01/10/95, 60 FR 2527
Section 5-803 | Registration procedure | 04/20/88 | 01/10/95, 60 FR 2527
Section 5-804 | False or misleading information | 04/20/88 | 01/10/95, 60 FR 2527
Section 5-805 | Commencement or recommencement of operation | 04/20/88 | 01/10/95, 60 FR 2527
Section 5-806 | Transfer of Operation | 04/20/88 | 01/10/95, 60 FR 2527

(d) EPA-approved State Source specific requirements.

EPA-Approved Vermont Source Specific Requirements
Name of source | Permit No. | State effective date | EPA approval date | Explanations
Simpson Paper Company, Centennial Mill in Gilman, Vermont | Environmental Protection Regulations, Chapter 5, Air Pollution Control, Subchapter II. Section 5-251(2) | 01/04/95 | 04/09/97, 45 FR 17087 | Administrative orders for Simpson Paper Company, in Gilman, Vermont, adopted and effective on January 4, 1995.
U.S. Samaica Corporation, in Rutland, VT | Environmental Protection Regulations, Chapter 5, Air Pollution Control, Subchapter II. Section 5-253.20 | 01/04/95 | 04/09/97, 45 FR 17087 | Administrative orders for U.S. Samaica Corporation, in Rutland, Vermont, adopted and effective on January 4, 1995.

(e) Nonregulatory.

Vermont Non Regulatory
Name of non regulatory SIP provision | Applicable geographic or nonattainment area | State submittal date/ effective date | EPA approved date | Explanations
Notice of public hearing | Statewide | Submitted 02/03/72 | 06/15/72, 37 FR 11911 | (c)(1) Vermont Agency of Environmental Conservation.
Miscellaneous non-regulatory revisions to the plan |  | Submitted 02/25/1972 | 5/31/72 37 FR 10899 | (c)(2) Vermont Agency of Environmental Conservation.
Miscellaneous non-regulatory revisions to the plan |  | Submitted 03/03/75 | 01/21/76, 41 FR 3085 | (c)(4) Vermont Agency of Environmental Conservation. Deletion of Winooski sampling site for particulates and sulfur dioxide.
Plans to meet various requirements of the Clean Air Act, including Part C |  | Submitted 03/21/79, and 11/21/79 | 01/30/80, 45 FR 6781 | (c)(9) See Plans to attain below.
Attainment Plans to meet the requirements of Part D and the Clean Air Act, as amended in 1977 |  | Submitted 03/21/79, 11/21/79, 11/27,79, and 12/19/79 | 02/19/80, 45 FR 10775 | (c)(10) Plans to attain. State of Vermont air quality implementation plan (March 1979). The secondary TSP standard for Barre City and a portion of the Champlain Valley Air Management Area, the carbon monoxide standard in the Champlain Valley Air Management Area and the ozone standard in Chittenden, Addison, and Windsor Counties. A program was also submitted for the review of construction and operation of new and modified major stationary sources of pollution in non-attainment areas. Certain miscellaneous provisions were also included.
A plan to provide for public, local and state involvement in federally funded air pollution control activities |  | Submitted 03/28/80 | 09/09/80, 45 FR 59314 | (c)(11) A plan to provide for public, local and state involvement in federally funded air pollution control activities.
A plan to attain and maintain the National Ambient Air Quality Standard for lead |  | Submitted 06/24/80, and 11/07/80 | 03/18/81, 46 FR 17192 | (c)(12) A plan to attain and maintain the National Ambient Air Quality Standard for lead. A letter further explaining the state procedures for review of new major sources of lead emissions.
A revision to the air quality monitoring network |  | Submitted 03/21/79 | 10/08/80, 45 FR 66789; corrected by 03/16/81, 46 FR 15897 | (c)(13) meets the requirements of 40 CFR part 58.
Narrative submittal “Implementation Plan for the Protection of Visibility in the State of Vermont” and “Appendices” |  | Submitted 04/15/86 | 07/17/87, 52 FR 26973 | (c)(19) Describing procedures, notifications, and technical evaluations to fulfill the visibility protection requirements of 40 CFR part 51, subpart P.
State Implementation Plan narrative |  | Submitted 12/07/90, and 01/10/91 | 03/05/91, 56 FR 9175 | (c)(20) State of Vermont Air Quality Implementation Plan dated November, 1990.
State Implementation Plan narrative |  | Submitted 08/09/93 | 01/10/95, 60 FR 2524 | (c)(21) State of Vermont Air Quality Implementation Plan dated February, 1993. To meet the emission statement requirement of the CAAA of 1990.
Revisions to the State Implementation Plan |  | Submitted 02/03/93, 08/09/93, and 08/10/94 | 04/22/98, 63 FR 19828 | (c)(25)State of Vermont: Air Quality Implementation Plan dated August 1993.
Revisions to the State Implementation Plan |  | Submitted | 07/10/00, 65 FR 42290 | (c)(26)letter from VT Air Pollution Control Division dated July 28, 1998 stating a negative declaration for the aerospace coating operations CTG category.

[FR Doc. 00-22969 Filed 9-7-00; 8:45 am]

BILLING CODE 6560-50-P